DEPARTMENT OF COMMERCE

National Telecommunications and Information Administration

Multistakeholder Process To Develop Consumer Data Privacy Code of Conduct Concerning Facial Recognition Technology

AGENCY: National Telecommunications and Information Administration, U.S. Department of Commerce.

ACTION: Notice of open meeting.

SUMMARY: The National Telecommunications and Information Administration (NTIA) will convene a meeting of a privacy multistakeholder process concerning the commercial use of facial recognition technology on June 11, 2015.

DATES: The meeting will be held on June 11, 2015 from 1:00 p.m. to 5:00 p.m., Eastern Daylight Time. See Supplementary Information for details.

ADDRESSES: The meeting will be held in the Boardroom at the American Institute of Architects, 1735 New York Avenue NW., Washington, DC 20006.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002; email press@ntia.doc.gov.

SUPPLEMENTARY INFORMATION:

Background: On February 23, 2012, the White House released Consumer Data Privacy in a Networked World: A Framework for Protecting Privacy and Promoting Innovation in the Global Digital Economy (the “Privacy Blueprint”).¹ The Privacy Blueprint directs NTIA to convene multistakeholder processes to develop legally enforceable codes of conduct that specify how the Consumer Privacy Bill of Rights applies in specific business contexts.² On December 3, 2013, NTIA announced that it would convene a multistakeholder process with the goal of developing a code of conduct to protect consumers' privacy and promote trust regarding facial recognition technology in the commercial context.³ On February 6, 2014, NTIA convened the first meeting of the facial recognition multistakeholder process, followed by additional meetings through December 2014.

¹ The Privacy Blueprint is available at http://www.whitehouse.gov/sites/default/files/privacy-final.pdf.

² Id.

³ NTIA, Facial Recognition Technology, http://www.ntia.doc.gov/other-publication/2013/privacy-multistakeholder-process-facial-recognition-technology.

Matters To Be Considered: The June 11, 2015 meeting is a continuation of a series of NTIA-convened multistakeholder discussions concerning facial recognition technology. Stakeholders will engage in an open, transparent, consensus-driven process to develop a code of conduct regarding facial recognition technology. The June 11, 2015 meeting will build on stakeholders' previous work. More information about stakeholders' work is available at: http://www.ntia.doc.gov/other-publication/2014/privacy-multistakeholder-process-facial-recognition-technology.

Time and Date: NTIA will convene a meeting of the privacy multistakeholder process regarding facial recognition technology on June 11, 2015, from 1:00 p.m. to 5:00 p.m., Eastern Daylight Time. The meeting date and time are subject to change. The meeting is subject to cancelation if stakeholders complete their work developing a code of conduct. Please refer to NTIA's Web site, http://www.ntia.doc.gov/other-publication/2014/privacy-multistakeholder-process-facial-recognition-technology, for the most current information.

Place: The meeting will be held in the Boardroom at the American Institute of Architects, 1735 New York Avenue NW., Washington, DC 20006. The location of the meeting is subject to change. Please refer to NTIA's Web site, http://www.ntia.doc.gov/other-publication/2014/privacy-multistakeholder-process-facial-recognition-technology, for the most current information.

Other Information: The meeting is open to the public and the press. The meeting is physically accessible to people with disabilities. Requests for sign language interpretation or other auxiliary aids should be directed to John Verdi at (202) 482-8238 or jverdi@ntia.doc.gov at least seven (7) business days prior to the meeting. The meeting will also be webcast. Requests for real-time captioning of the webcast or other auxiliary aids should be directed to John Verdi at (202) 482-8238 or jverdi@ntia.doc.gov at least seven (7) business days prior to the meeting. There will be an opportunity for stakeholders viewing the webcast to participate remotely in the meeting through a moderated conference bridge, including polling functionality. Access details for the meeting are subject to change. Please refer to NTIA's Web site, http://www.ntia.doc.gov/other-publication/2013/privacy-multistakeholder-process-facial-recognition-technology, for the most current information.

Dated: May 8, 2015.
Kathy Smith,
Chief Counsel, National Telecommunications and Information Administration.

[FR Doc. 2015-11548 Filed 5-12-15; 8:45 am]

BILLING CODE 3510-60-P